ENVIRONMENTAL PROTECTION AGENCY

[EPA-HQ-OPP-2022-0150; FRL-9513-01-OCSSP]

Agency Information Collection Activities; Proposed Renewal and Request for Comment; Soil and Non-Soil Fumigants Mitigation

AGENCY: Environmental Protection Agency (EPA).

ACTION: Notice.

SUMMARY: In compliance with the Paperwork Reduction Act (PRA), this document announces the availability of and solicits public comment on an Information Collection Request (ICR) that EPA is planning to submit to the Office of Management and Budget (OMB). The ICR, entitled: “Soil and Non-Soil Fumigant Risk Mitigation” and identified by EPA ICR No. 2451.03 and OMB Control No. 2070-0197, represents the renewal of an existing ICR that is scheduled to expire on January 31, 2023. Before submitting the ICR to OMB for review and approval under the PRA, EPA is soliciting comments on specific aspects of the information collection that is summarized in this document. The ICR and accompanying material are available in the docket for public review and comment.

DATES: Comments must be submitted on or before August 23, 2022.

ADDRESSES: Submit your comments, identified by docket identification (ID) number EPA-HQ-OPP-2022-0150, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT:

For general information contact: Carolyn Siu, Regulatory Support Branch (7602M), Office of Chemical Safety and Pollution Prevention, Environmental Protection Agency, 1200 Pennsylvania Ave. NW, Washington, DC 20460-0001; telephone number: (202) 566-1205; email address: siu.carolyn@epa.gov.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What information collection activity or ICR does this action apply to?

Title: Soil and Non-Soil Fumigant Risk Mitigation.

ICR numbers: EPA ICR No. 2451.03, and OMB Control No. 2070-0197.

ICR status: This ICR is currently scheduled to expire on January 31, 2023. An Agency may not conduct or sponsor, and a person is not required to respond to, a collection of information, unless it displays a currently valid OMB control number. The OMB control numbers, after appearing in the Federal Register when approved, are displayed either by publication in the Federal Register or by other appropriate means, such as with the related collection instrument or form, if applicable. The display of OMB control numbers for certain EPA regulations in title 40 of the Code of Federal Regulations (CFR) is consolidated in 40 CFR part 9.

Abstract: Pursuant to section 4(g) of the Federal Insecticide, Fungicide, and Rodenticide Act (FIFRA), EPA determined that several soil and non-soil fumigants are eligible for reregistration only if specific risk mitigation measures are adopted and adequately implemented. This ICR documents the PRA activities for users, registrants, and participating states to implement fumigant risk mitigation measures for the chemicals identified in this document.

The PRA burden activities discussed in this ICR include: registrant activities to develop and implement training for fumigators in charge of fumigations, develop and disseminate safety information for handlers, develop and implement community outreach and education programs, and develop and implement first responder training; and labeling activities for fumigant products; including user posting requirements concerning fumigant applications around the use site, providing notice of soil fumigant applications to applicable states, preparing a Fumigant Management Plan (FMP) and Post-Application Summary (PAS) as needed, participating in an EPA-approved fumigant training program, and disseminating fumigant safe handling information to handlers.

The ICR, which is available in the docket along with other related materials, provides a detailed explanation of the collection activities and the burden estimate that is only briefly summarized here.

Burden statement: The annual public reporting and recordkeeping burden for this collection of information is estimated to average from a range of 0.8 to 13.9 hours per response.

Respondents/affected entities: Entities potentially affected by this ICR are soil and non-soil fumigant users, specifically certified applicators and agriculture pesticide handlers North American Industrial Classification System (NAICS) code 111000—Agriculture, Forestry, Fishing and Hunting); soil and non-soil fumigant registrants (NAICS 325300—Pesticide, Fertilizer, and Other Agricultural Chemical Manufacturing); and state and tribal lead agencies (NAICS 999200—State Government).

Respondent's obligation to respond: Mandatory under FIFRA section 3(c)(2)(B).

Estimated total number of potential respondents: 118,436 (total).

Frequency of response: On occasion.

Estimated total average number of responses for each respondent: 5.

Estimated total annual estimated burden hours: 1,159,232 hours (per year). Burden is defined at 5 CFR 1320.3(b).

Estimated total annual costs: $31,979,828 (per year), includes $1,060,214 annualized capital or operation and maintenance costs.

III. Are there changes in the estimates from the last approval?

There is an increase of 8,336 hours in the total estimated respondent burden compared with that currently approved by OMB. This increase is due to the update in the estimated number of applicators certified and handlers for soil and non-soil fumigations. There is also a decrease in burden costs for both types of fumigation due to updating the wages to the current 2021 data provided by the U.S. Bureau of Labor Statistics.

In addition, OMB has requested that EPA move towards using the 18-question format for ICR Supporting Statements used by other federal agencies and departments and is based on the submission instructions established by OMB in 1995, replacing the alternate format developed by EPA and OMB prior to 1995. The Agency does not expect this change in format to result in substantive changes to the information collection activities or related estimated burden and costs.

IV. What is the next step in the process for this ICR?

EPA will consider the comments received and amend the ICR as appropriate. The final ICR package will then be submitted to OMB for review and approval pursuant to 5 CFR 1320.12. EPA will issue another Federal Register document pursuant to 5 CFR 1320.5(a)(1)(iv) to announce the submission of the ICR to OMB and the opportunity to submit additional comments to OMB. If you have any questions about this ICR or the approval process, please contact the person listed under FOR FURTHER INFORMATION CONTACT.

(Authority: 44 U.S.C. 3501 et seq.)

Dated: June 16, 2022.
Michal Freedhoff,
Assistant Administrator, Office of Chemical Safety and Pollution Prevention.

[FR Doc. 2022-13486 Filed 6-23-22; 8:45 am]

BILLING CODE 6560-50-P